DEFENSE NUCLEAR FACILITIES SAFETY BOARD

Sunshine Act Meeting

Pursuant to the provisions of the “Government in the Sunshine Act” (5 U.S.C. 552b), notice is hereby given of the Defense Nuclear Facilities Safety Board's (Board) meeting.

Federal Register Citation of Previous Announcement: 69 FR 1699 (January 12, 2004).

Previously Announced Time and Date of the Meeting: 9 a.m., February 3, 2004.

Changes in the Meeting: On February 9, 2004, at 9 a.m., the Board will hear from the Department of Energy's Office of Environment, Safety, and Health concerning its roles and responsibilities in the oversight process of defense nuclear facilities. This testimony was previously scheduled for the February 3, 2004, public meeting. The meeting will be held at the Defense Nuclear Facilities Safety Board, Public Hearing Room, 625 Indiana Avenue, NW., Suite 300, Washington, DC 20004.

FOR FURTHER INFORMATION CONTACT: Kenneth M. Pusateri, General Manager, Defense Nuclear Facilities Safety Board, 625 Indiana Avenue, NW., Suite 700, Washington, DC 20004-2901, (800) 788-4016. This is a toll-free number.

Dated: February 2, 2004.
John T. Conway,
Chairman.

[FR Doc. 04-2406 Filed 2-2-04; 10:59 am]

BILLING CODE 3670-01-P